FEDERAL HOUSING FINANCE BOARD

Sunshine Act Meeting Notice; Announcing a Partially Open Meeting of the Board of Directors

Time and Date: The open portion of the meeting of the Board of Directors is scheduled to begin at 12 p.m. on Wednesday, September 15, 2004. The closed portion of the meeting will follow immediately the open portion of the meeting.

Place: Board Room, Second Floor, Federal Housing Finance Board, 1777 F Street, NW., Washington, DC 20006.

Status: The first portion of the meeting will be open to the public. The final portion of the meeting will be closed to the public.

Matters To Be Considered at the Open Portion of the Meeting:

Federal Housing Finance Board Fiscal Year 2005 Budget.

Matter To Be Considered at the Closed Portion of the Meeting:

Periodic Update of Examination Program Development and Supervisory Findings.

FOR FURTHER INFORMATION CONTACT: Mary H. Gottlieb, Paralegal Specialist, Office of General Counsel, by telephone at (202) 408-2826, or by electronic mail at gottliebm@fhfb.gov.

Dated: September 7, 2004.
By the Federal Housing Finance Board
Mark J. Tenhundfeld,
General Counsel.

[FR Doc. 04-20629 Filed 9-8-04; 3:14 pm]

BILLING CODE 6725-01-P